DEPARTMENT OF THE INTERIOR

National Park Service

National Register of Historic Places; Notification of Pending Nominations

Nominations for the following properties being considered for listing in the National Register were received by the National Park Service before February 14, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by March 17, 2004.

Carol D. Shull,
Keeper of the National Register of Historic Places.

INDIANA

Franklin County

Hermitage, The, 650 E. 8th St., Brookville, 04000209.

Lake County

Crown Point Courthouse Square Historic District, Roughly bounded by Clark St., the alley E of Main St., Hack Ct., and Court St., Crown Point, 04000203.

Marion County

Marcy Village Apartments, 4440-4567 Marcy Ln. and 1401 E. 46th St., Indianapolis, 04000202.

Wheeler-Schebler Carburetor Company, 1234 Barth Ave.,Indianapolis, 04000210.

Porter County

Bartlett Real Estate Office, 500 South Broadway, Beverly Shores, 04000208.

Rush County

Center Township Grade and High School, (Indiana's Public Common and High Schools MPS), 929 E. South St., Mays, 04000211.

Vanderburgh County

Oak Hill Cemetery, 1400 E. Virginia St., Evansville, 04000205.

Vigo County

Collett Park Neighborhood Historic District, Roughly bounded by 7th St., Maple Ave., 11th St., and Florida Ave., Terre Haute, 04000207.

Wabash County

Marshall, Thomas R., School, 603 Bond St., North Manchester, 04000206.

Stockdale Mill, (Grain Mills in Indiana MPS), IN 700 E, Stockdale, 04000204.

MISSISSIPPI

Carroll County

Abiaca Creek Bridge, Nebo Rd., about 0.3 mi. N of MS 430, near Black Hawk, Vaiden, 04000218.

Hinds County

Chambliss Building, 932 Lynch St., Jackson, 04000219.

Smith Park Architectural District (Boundary Increase II),308 E. Pearl St., Jackson, 04000215.

Newton County

Chunky River Bridge, (Historic Bridges of Mississippi TR) Adams St.,Chunky, 04000217.

Pike County

Holmes, William Frederick, House, 302 Third St., McComb, 04000216.

MISSOURI

Jackson County

Katz, Michael H. and Rose, House, 5930 Ward Pkwy., Kansas City, 04000212.

United States Post Office—Kansas City, 315 W. Pershing Rd.,Kansas City, 04000213.

Moniteau County

Finke Opera House, 312 N. High St., California, 04000214.

MONTANA

Rosebud County

Bones Brothers Ranch, W of Custer National Forest, Birney, 04000220.

NEW JERSEY

Burlington County

Buzby's General Store, 3959 Cty Rd. 563, Woodland Township, 04000222.

Cape May County

Chateau Bleu Motel, (Motels of The Wildwoods) 911 Surf Ave., City of North Wildwood, 04000221.

Essex County

Community Hospital, 130 W. Kinney St., Newark, 04000224.

Hudson County

St. Anthony of Padua Roman Catholic Church, 457 Monmouth St.,Jersey City, 04000225.

Passaic County

Hinchliffe Stadium, Maple and Liberty Sts., overlooking the Great Falls of the Passaic, Paterson City, 04000223.

NEW YORK

Monroe County

Main Street Historic District, Main, Market and King Sts., Brockport, 04000227.

Wayne County

St. Peter, (Shipwreck), Address Restricted, Pultneyville, 04000226.

TEXAS

Bandera County

Langford, B.F., Jr. and Mary Hay, House, 415 Fourteenth St., Bandera, 04000229.

Colorado County

Harrison-Hastedt House, 236 Preston St., Columbus, 04000231.

Kinney County

1911 Kinney County Courthouse, 501 S. Ann St., Brackettville, 04000230.

Roberts County

Roberts County Courthouse, 301 E. Commercial St., Miami, 04000228.

A request for COMMENT is made for the following:

The National Historic Landmarks Survey solicits comments on draft additional documentation that has been prepared for the Dixie Coca-Cola Bottling Company Plant. The draft additional documentation is available for review and comment until March 17, 2004 at http://www.cr.nps.gov/nhl/cocacola.pdf. You may also contact Daniel Vivian by phone at (202) 354-2252, or through e-mail at dan_vivian@nps.gov for questions about this document.

[FR Doc. 04-4522 Filed 3-1-04; 8:45 am]

BILLING CODE 4312-51-P